DEPARTMENT OF COMMERCE

International Trade Administration

[A-201-836]

Light-Walled Rectangular Pipe and Tube From Mexico: Amended Final Results of Antidumping Duty Administrative Review; 2020-2021

AGENCY: Enforcement and Compliance, International Trade Administration, Department of Commerce.

SUMMARY: The U.S. Department of Commerce (Commerce) is amending the final results of the administrative review of the antidumping duty order on light-walled rectangular pipe and tube (LWRPT) from Mexico to correct certain ministerial errors. The period of review is August 1, 2020, through July 31, 2021.

DATES: Applicable May 12, 2023.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On March 14, 2023, Commerce published the Final Results of the 2020-2021 administrative review of LWRPT from Mexico.¹ Additionally, on March 13, 2023, Commerce informed interested parties that it had disclosed all calculations for the Final Results, and provided them with the opportunity to submit ministerial error comments.² Subsequently, on March 20, 2023, Commerce received a timely filed allegation from Regiomontana de Perfiles y Tubos S. de R.L. de C.V. (Regiopytsa) regarding the calculation of its final weighted-average dumping margin.³ No other interested party submitted comments.

¹ See Light-Walled Rectangular Pipe and Tube from Mexico: Final Results of Antidumping Duty Administrative Review; 2020-2021, 88 FR 15665 (March 14, 2023) (Final Results), and accompanying Issues and Decision Memorandum.

² See Memorandum, “Deadline for Ministerial Error Comments,” dated March 13, 2023.

³ See Regiopytsa's Letter, “Ministerial Error Comments,” dated March 20, 2023.

Legal Framework

Section 751(h) of the Tariff Act of 1930, as amended (the Act) and 19 CFR 351.224(f) define a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . . .”

Ministerial Error

Regiopytsa alleges that Commerce made a ministerial error in the Final Results within the meaning of section 751(h) of the Act and 19 CFR 351.224(f) by inadvertently basing average normal value and U.S. prices on quarterly weighted-average home market and U.S. prices, rather than on monthly weighted-average prices. Regiopytsa argues that Commerce's practice is to based average normal value and average U.S. prices on monthly averages of home market and U.S. prices, respectively. This error resulted in an incorrect weighted-average dumping margin calculated for Regiopytsa.

We agree with Regiopytsa that Commerce made a ministerial error in its use of quarterly average prices for normal value and average U.S. prices. Pursuant to 777A(d)(2) of the Act, in an administrative review, a normal value based on comparison market prices must be limited to the period of a calendar month. By extension, when using the average-to-average comparison method, average U.S. prices must also be limited to U.S. market prices to the period of a calendar month. We have revised the margin calculations such that normal value and average U.S. price is based on monthly weighted-average home market and U.S. prices, respectively.

Details of Commerce's analysis of Regiopytsa's ministerial error allegation are included in the Ministerial Error Allegation Memorandum.⁴ The Ministerial Error Allegation Memorandum is a public document and is available via Enforcement and Compliance's Antidumping and Countervailing Duty Centralized Electronic Service System (ACCESS). ACCESS is available to registered users at https://access.trade.gov.

⁴ See Memorandum, “Antidumping Duty Administrative Review of Light-Walled Rectangular Pipe and Tube from Mexico; 2020-2021: Ministerial Error Allegation,” dated concurrently with this notice (Ministerial Error Allegation Memorandum).

Accordingly, pursuant to 19 CFR 351.224(e), Commerce is amending the Final Results to reflect the correction of this ministerial error in the calculation of the weighted-average dumping margin for Regiopytsa, which changes from 1.56 percent to 1.44 percent.⁵ Furthermore, we are amending the weighted-average dumping margin for the companies not selected for individual examination in this review. The weighted-average dumping margin for the non-examined companies is based on the weighted-average dumping margins calculated for the mandatory respondents, which changes from 5.38 percent to 5.32 percent.⁶

⁵ Id.

⁶ See Memorandum, “Amended Non-Examined Company Rate Calculation,” dated concurrently with this notice.

Amended Final Results of Review

As a result of correcting the ministerial error, Commerce determines that the following weighted-average dumping margins exist for the period August 1, 2020, through July 31, 2021:

⁷ The weighted-average dumping margin for Maquilacero/TEFLU remains unchanged from the Final Results. See Final Results, 88 FR at 15666.

Producer or exporter | Weighted- average dumping margin (percent)
Maquilacero S.A. de C.V./Tecnicas de Fluidos S.A. de C.V.⁷ | 9.20
Regiomontana de Perfiles y Tubos S. de R.L. de C.V | 1.44
Perfiles LM, S.A. de C.V | 5.32
Productos Laminados de Monterrey S.A. de C.V | 5.32

Disclosure

We will disclose the calculations performed for these amended final results to parties to this segment of the proceeding within five days of the date of the publication of these amended final results, pursuant to 19 CFR 351.224(b).

Assessment Rate

Pursuant to section 751(a)(2)(C) of the Act and 19 CFR 351.212(b)(1), Commerce has determined, and U.S. Customs and Border Protection (CBP) shall assess, antidumping duties on all appropriate entries of subject merchandise in accordance with these amended final results of the administrative review.

In accordance with 19 CFR 351.212(b)(1), for Maquilacero S.A. de C.V. (Maquilacero) and Tecnicas de Fluidos S.A. de C.V. (TEFLU) (collectively, Maquilacero/TEFLU) and Regiopytsa, we calculated importer-specific ad valorem antidumping duty assessment rates based on the ratio of the total amount of dumping calculated for the examined sales for each importer to the total entered value of the sales for each importer. Where an importer-specific antidumping duty assessment rate is zero or de minimis within the meaning of 19 CFR 351.106(c)(1), Commerce will instruct CBP to liquidate the appropriate entries without regard to antidumping duties.

Commerce's “automatic assessment” will apply to entries of subject merchandise during the period of review produced by either Maquilacero/TEFLU or Regiopytsa for which the examined company did not know that the merchandise that they sold to the intermediary company (e.g., a reseller, trading company, or exporter) was destined for the United States. In such instances, we will instruct CBP to liquidate such entries at the all-others rate if there is no rate for the intermediate company(ies) involved in the transaction.

For the companies which were not selected for individual examination, we will instruct CBP to assess antidumping duties at an ad valorem assessment rate equal to the company-specific weighted- average dumping margin determined in these amended final results.

The amended final results of this review shall be the basis for the assessment of antidumping duties on entries of merchandise covered by the amended final results of this review and for future deposits of estimated duties, where applicable.⁸

⁸ See section 751(a)(2)(C) of the Act.

Commerce intends to issue assessment instructions to CBP no earlier than 41 days after the date of publication of the amended final results of this review in the Federal Register, in accordance with 19 CFR 356.8(a).

Cash Deposit Requirements

The following cash deposit requirements will be effective retroactively for all shipments of subject merchandise that entered, or were withdrawn from warehouse, for consumption on or after March 14, 2023, the date of publication of the Final Results of this administrative review. As provided for by section 751(a)(2)(C) of the Act: (1) the cash deposit rate for the companies listed above will be equal to the weighted-average dumping margin established in these amended final results of review; (2) for exporters not covered in this review but covered in a prior segment of the proceeding, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or any previously completed segment of this proceeding, then the cash deposit rate will be the all-others rate of 3.76 percent established in the less-than-fair-value investigation.⁹

⁹ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008).

These cash deposit requirements, when imposed, shall remain in effect until further notice.

Notification to Importers

This notice also serves as a final reminder to importers of their responsibility under 19 CFR 351.402(f) to file a certificate regarding the reimbursement of antidumping duties prior to liquidation of the relevant entries during the period of review. Failure to comply with this requirement could result in Commerce's presumption that reimbursement of antidumping duties occurred and the subsequent assessment of doubled antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: May 8, 2023.
Lisa W. Wang,
Assistant Secretary for Enforcement and Compliance.

[FR Doc. 2023-10213 Filed 5-11-23; 8:45 am]

BILLING CODE 3510-DS-P